DEPARTMENT OF DEFENSE

Department of the Army

Availability for Non-Exclusive, Exclusive, or Partially Exclusive Licensing of U.S. Patent Application Concerning High-Throughput Assays for the Proteolytic Activities of Clostridial Neurotoxins

AGENCY: Department of the Army, DOD.

ACTION: Notice; correction.

SUMMARY: The notice published on Tuesday, March 12, 2002, at 67 FR 111106 announcing the availability for licensing of U.S. patent application provided the incorrect patent application number, the patent application number should read: “09/962,360”.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: None.

Luz D. Ortiz,
Army Federal Register Liaison Officer.

[FR Doc. 02-8674 Filed 4-9-02; 8:45 am]

BILLING CODE 3710-08-M